DEPARTMENT OF ENERGY

Federal Energy Regulatory Commission

[Project No. 11891-000]

Symbiotics, LLC.; Notice Granting Late Intervention

July 25, 2001.

On April 20, 2001, the Commission issued a notice of the application for a preliminary permit filed by Symbiotics, LLC., for the Hyrum Reservoir Project, to be located on the Bear River, in Cache County, Utah. The notice established June 19, 2001, as the deadline for filing motions to intervene.

On June 25, 2001, the Bear River Water Users Association (the Association) filed a late motion to intervene in the proceeding. On July 2, 2001, Symbiotics, LLC., filed a response to the motion to intervene, but does not oppose intervention by the Association.

Granting the motion to intervene will not unduly delay or disrupt the proceeding or prejudice other parties to it. Therefore, pursuant to Rule 214,¹ the motion to intervene in this proceeding filed by the Association is granted, subject to the Commission's rules and regulations.

Linwood A. Watson, Jr.,
Acting Secretary.

¹ 18 CFR 385.214 (2001).

[FR Doc. 01-19000 Filed 7-30-01; 8:45 am]

BILLING CODE 6717-01-P